DEPARTMENT OF TRANSPORTATION

Federal Aviation Administration

[Summary Notice No. PE-2003-62]

Petition for Authorization To Exceed Mach 1; Summary of Petition Received

AGENCY: Federal Aviation Administration (FAA), DOT.

ACTION: Notice of request for an authorization to exceed Mach 1.

SUMMARY: This notice summarizes a petition requesting use of a special flight authorization procedure in FAA regulations. The purpose of this notice is to improve the public's awareness of, and participation in, this aspect of FAA's regulatory activities. Neither publication of this notice nor the inclusion or omission of information in the summary is intended to affect the legal status of any petition or its final disposition.

DATES: Comments on petition received must identify the petition docket number involved and must be received on or before November 7, 2003.

ADDRESSES: Send comments on any petition to the Docket Management System, U.S. Department of Transportation, Room Plaza 401, 400 Seventh Street, SW., Washington, DC 20590-0001. You must identify the docket number FAA-2003-16264 at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Caren Centorelli, Office of Rulemaking (ARM-1), Federal Aviation Administration, 800 Independence Avenue, SW., Washington, DC 20591. Tel. (202) 267-8029.

Petition for Authorization To Exceed Mach 1

Docket No.: FAA-2003-16264.

Petitioner: Scaled Composites.

Section of 14 CFR Affected: 14 CFR 91.817, Appendix B to Part 91.

Description of Relief Sought: To allow petitioner limited and conditional flight operations that exceed Mach 1. Title 14 Code of Federal Regulations (14 CFR) part 91, subpart I-Operating Noise Limits, addresses civil aircraft sonic boom under § 91.817. An operator must comply with the flight conditions and limitations designated by the FAA in any authorization to exceed Mach 1 prescribed under appendix B of this part. The petitioner is requesting that it be allowed to conduct developmental flight operations of the supersonic SpaceShipOne aircraft over Edwards Air Force Base, known as the “R-2508 Complex,” located in Los Angeles and Kern counties in California.

Issued in Washington, DC, on October 23, 2003.
Donald P. Byrne,
Assistant Chief Counsel for Regulations.

[FR Doc. 03-27274 Filed 10-28-03; 8:45 am]

BILLING CODE 4910-13-P